DEPARTMENT OF COMMERCE

National Institute of Standards and Technology

Visiting Committee on Advanced Technology

AGENCY: National Institute of Standards and Technology, Department of Commerce.

ACTION: Notice of partially closed meeting.

SUMMARY: Pursuant to the Federal Advisory Committee Act, 5 U.S.C. app. 2, notice is hereby given that the Visiting Committee on Advanced Technology, National Institute of Standards and Technology (NIST), will meet Monday, September 13, 2004, from 1 p.m. to 5:30 p.m. and Tuesday, September 14, 2004, from 8 a.m. to 2:15 p.m. The Visiting Committee on Advanced Technology (VCAT) is composed of fifteen members appointed by the Director of NIST; who are eminent in such fields as business, research, new product development, engineering, labor, education, management consulting, environment, and international relations. The purpose of this meeting is to review and make recommendations regarding general policy for the Institute, its organization, its budget, and its programs within the framework of applicable national policies as set forth by the President and the Congress. The agenda will include an update on NIST's activities; a review of NIST's performance evaluation system; an update on NRC's FY04-05 biennial assessment process of NIST laboratories; a VCAT panel discussion on the Management of Organizations with Remote Sites in the U.S.; and the NIST response to VCAT recommendations from the FY 2003 Annual Report. There also will be a presentation on NIST's studies to improve first responder communications and three laboratory tours in the areas of measurement science and biosystems and health. Discussions scheduled to begin at 1 p.m. and to end at 2 p.m., on September 13, and to begin at 11 a.m. and to end at 2:15 p.m. on September 14, 2004, on the NIST budget, planning information and feedback sessions will be closed. Agenda may change to accommodate Committee business. The final agenda will be posted on the NIST Web site. All visitors to the National Institute of Standards and Technology site will have to pre-register to be admitted. Please submit your name, time of arrival, e-mail address and phone number to Carolyn Peters no later than Thursday, September 9, 2004, and she will provide you with instructions for admittance. Ms. Peter's e-mail address is carolyn.peters@nist.gov and her phone number is 301/975-5607.

DATES: The meeting will convene September 13, 2004, at 1 p.m. and will adjourn at 2:15 p.m. on September 14, 2004.

ADDRESSES: The meeting will be held in the Radio Building, Room 1107 (seating capacity 60, includes 35 participants), at NIST, Boulder, Colorado. Please note admittance instructions under SUMMARY paragraph.

FOR FURTHER INFORMATION CONTACT: Carolyn J. Peters, Visiting Committee on Advanced Technology, National Institute of Standards and Technology, Gaithersburg, Maryland 20899-1000, telephone number (301) 975-5607.

SUPPLEMENTARY INFORMATION: The Assistant Secretary for Administration, with the concurrence of the General Counsel, formally determined on December 24, 2004, that portions of the meeting of the Visiting Committee on Advanced Technology which deal with discussion of sensitive budget and planning information that would cause harm to third parties if publicly shared be closed in accordance with section 10(d) of the Federal Advisory Committee Act, 5 U.S.C. app. 2.

Dated: August 11, 2004.
Hratch G. Semerjian,
Acting Director.

[FR Doc. 04-18866 Filed 8-17-04; 8:45 am]

BILLING CODE 3510-13-P